DEPARTMENT OF ENERGY

DOE/NSF Nuclear Science Advisory Committee

AGENCY: Office of Science, Department of Energy.

ACTION: Notice of open meeting.

SUMMARY: This notice announces an open virtual meeting of the DOE/NSF Nuclear Science Advisory Committee (NSAC). The Federal Advisory Committee Act requires that public notice of these meetings be announced in the Federal Register.

DATES: Wednesday, September 28, 2022; 3 p.m. to 5 p.m. EDT

ADDRESSES: Information to participate virtually can be found on the NSAC website closer to the meeting at: https://science.osti.gov/np/nsac/meetings.

FOR FURTHER INFORMATION CONTACT: Brenda L. May, Committee Manager, NSAC, email: brenda.may@science.doe.gov; telephone (301) 903-0536.

SUPPLEMENTARY INFORMATION: Purpose of the Board: The purpose of the Board is to provide advice and guidance on a continuing basis to the Department of Energy and the National Science Foundation on scientific priorities within the field of basic nuclear science research.

Tentative Agenda:

• Call to Order, Introductions, Review of the Agenda

• Update from the Department of Energy and National Science Foundation's Nuclear Physics Offices

• Presentation of the Interim Report of the Nuclear Data Charge

• Discussion of the Nuclear Data Interim Report

• Long Range Plan Update & Discussion

• NSAC Business/Discussions

• Public Comment

Public Participation: The meeting is open to the public. Please check the website below for updates and information on how to view the meeting. If you would like to file a written statement with the Committee, you may do so either before or after the meeting. If you would like to make oral statements regarding any of these items on the agenda, you should contact Brenda L. May at Brenda.May@science.doe.gov. You must make your request for an oral statement at least five business days before the meeting. Reasonable provision will be made to include the scheduled oral statements on the agenda. The Chairperson of the Committee will conduct the meeting to facilitate the orderly conduct of business. Public comment will follow the 10-minute rule.

Minutes: The minutes of the meeting will be available for review on the U.S. Department of Energy's Office of Nuclear Physics website at https://science.osti.gov/np/nsac/meetings.

Signed in Washington, DC, on August 26, 2022.
LaTanya R. Butler,
Deputy Committee Management Officer.

[FR Doc. 2022-18881 Filed 8-31-22; 8:45 am]

BILLING CODE 6450-01-P